DEPARTMENT OF COMMERCE

National Oceanic and Atmospheric Administration

RIN 0648-XE364

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting of its Standing and Special Reef Fish Scientific and Statistical Committee (SSC).

DATES: The meeting will convene on Tuesday, January 5, and Wednesday, January 6, 2016; starting 9 a.m. on Tuesday and 8:30 a.m. on Wednesday, and will adjourn approximately 2 p.m. on Wednesday.

ADDRESSES: The meeting will be held at the Hilton Westshore Tampa Airport Hotel, 2225 N. Lois Avenue, Tampa, FL 33607; telephone: (813) 877-6688.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; email: steven.atran@gulfcouncil.org; telephone: (813) 348-1630.

SUPPLEMENTARY INFORMATION:

Agenda

The Chairman will start the meeting with introductions and adoption of agenda, and approval of minutes from the September 1-2, 2015 Standing and Special Reef Fish Scientific and Statistical (SSC) meeting; and selection of an SSC representative to attend the January 2016 Council meeting. The Committee will review the National Marine Fisheries Service's (NMFS) assessment prioritization process and will discuss the concept of best scientific information available. The Committee will receive an update on SEDAR 43 Gray Triggerfish Projections from the Southeast Fisheries Science Center (SEFSC) and will make recommendations for a new rebuilding plan including the selection of a projected recruitment scenario, time to rebuild in the absence of fishing, determination of a maximum probability of overfishing (P*) when setting the allowable biological catch (ABC) and recommendations for the overfishing limit (OFL) and ABC. The Committee will discuss a constant catch vs. a constant fishing mortality rate (F) approach to setting catch limits with respect to stability of management; and will receive a projection from the Florida Fish and Wildlife Research Institute on constant catch overfishing limits (OFL) and acceptable biological catch (ABC) for west Florida shelf stock of hogfish. Next, the Committee will review the SEDAR 42 Red Grouper Benchmark Assessment. If the Committee accepts the assessment and sufficient information is available, the Committee will recommend overfishing limits (OFL) and acceptable biological catch (ABC) levels for constant F and constant catch for red grouper. The Committee will review an options paper for a possible framework action to adjust the recreational red snapper annual catch target (ACT) buffer; receive a presentation from the NMFS Southeast Regional Office on their methods for setting season length, and review methods for assigning probability of exceeding the annual catch limit (ACL) at a given ACT buffer. The Committee will receive a presentation from the SEFSC on Integrated Ecosystem Assessment and Management Strategy Evaluation as it pertains to multi-species; and will review Draft Amendment 44 regarding the setting of minimum stock size thresholds (MSST) and maximum sustainable yield (MSY) proxies. The Committee will review proposed revisions to the SEDAR process. The Committee will also review the terms of reference and project schedule for SEDAR 49—Gulf of Mexico Data-limited Species, and select appointees for the data, assessment and review groups. Lastly, the Committee will review the SSC meeting schedule for 2016; and will discuss other business, if any.

— Meeting Adjourns —

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2016-01”.

The meeting will be webcast over the internet. A link to the webcast will be available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: December 15, 2015.
Jeffrey N. Lonergan,
Acting Deputy Director, Office of Sustainable Fisheries, National Marine Fisheries Service.

[FR Doc. 2015-31859 Filed 12-17-15; 8:45 am]

BILLING CODE 3510-22-P